DEPARTMENT OF DEFENSE

Department of the Air Force

U.S. Air Force Scientific Advisory Board; Notice of Federal Advisory Committee Meeting

AGENCY: U.S. Air Force Scientific Advisory Board, Department of the Air Force.

ACTION: Notice of Federal Advisory Committee meeting.

SUMMARY: The Department of Defense (DoD) is publishing this notice to announce that the following Federal Advisory Committee meeting of the U.S. Air Force Scientific Advisory Board will take place.

DATES: Closed to the public. 6 November, 2020 from 3:00 p.m. to 5:15 p.m. Eastern Standard Time.

ADDRESSES: The meeting will be held by virtual means from multiple secure locations across the United States, connected through secure virtual communications systems to include at the Pentagon, WPAFB, DIU Facility, RAND, MIT/LL, MITRE, and Aerospace.

FOR FURTHER INFORMATION CONTACT: Lt. Col. Elizabeth Sorrells, (240) 470-4566 (Voice), elizabeth.sorrells@us.af.mil (Email). Mailing address is 1500 West Perimeter Road, Ste. #3300, Joint Base Andrews, MD 20762. Website: https://www.scientificadvisoryboard.af.mil/. The most up-to-date changes to the meeting agenda can be found on the website.

SUPPLEMENTARY INFORMATION: This meeting is being held under the provisions of the Federal Advisory Committee Act (FACA) of 1972 (5 U.S.C., Appendix, as amended), the Government in the Sunshine Act of 1976 (5 U.S.C. 552b, as amended), and 41 CFR 102-3.140 and 102-3.150. Due to circumstances beyond the control of the Department of Defense and the Designated Federal Officer for the U.S. Air Force Scientific Advisory Board, the U.S. Air Force Scientific Advisory Board was unable to provide public notification required by 41 CFR 102-3.150(a) concerning its November 6, 2020 meeting. Accordingly, the Advisory Committee Management Officer for the Department of Defense, pursuant to 41 CFR 102-3.150(b), waives the 15-calendar day notification requirement.”

Purpose of the Meeting: The purpose of this Air Force Scientific Advisory Board meeting is for the Parent Board to receive the FY20 SecAF-directed study outbriefs for the Communications in the Future Operating Environment study and the Understanding and Avoiding Unintended Behaviors in Autonomous Systems study.

Agenda: [All times are Eastern Standard Time] 3:00 p.m.-3:05 p.m. Welcome Remarks 3:05 p.m.-4:05 p.m. Air Force Communications in the Future Operating Environment Outbrief and Deliberations 4:05 p.m.-4:10 p.m. Vote 4:10 p.m.-5:10 p.m. Understanding and Avoiding Unintended Behaviors in Autonomous Systems Outbrief and Deliberations 5:10 p.m.-5:15 p.m. Vote and Closing Remarks. In accordance with section 10(d) of the Federal Advisory Committee Act, as amended, 5 U.S.C. Appendix and 41 CFR 102-3.155, the Administrative Assistant of the Air Force, in consultation with the Air Force General Counsel, has agreed that the public interest requires the United States Air Force Scientific Advisory Board meeting be closed to the public because it will involve discussions involving classified matters covered by 5 U.S.C. 552b(c)(1).

Written Statements: Any member of the public wishing to provide input to the United States Air Force Scientific Advisory Board should submit a written statement in accordance with 41 CFR 102-3.140(c) and section 10(a)(3) of the Federal Advisory Committee Act and the procedures described in this paragraph. Written statements can be submitted to the Designated Federal Officer at the address detailed above at any time. The Designated Federal Officer will review all submissions with the United States Air Force Scientific Advisory Board Chairperson and ensure they are provided to members of the United States Air Force Scientific Advisory Board. Written statements received after the meeting that is the subject of this notice may not be considered by the Scientific Advisory Board until the next scheduled meeting.

Adriane Paris,
Acting Air Force Federal Register Liaison Officer.

[FR Doc. 2020-23479 Filed 10-22-20; 8:45 am]

BILLING CODE 5001-10-P